DEPARTMENT OF COMMERCE

International Trade Administration

[A-475-829]

Stainless Steel Bar From Italy: Preliminary Results of Antidumping Duty Administrative Review and Preliminary Rescission of Review

AGENCY: Import Administration, International Trade Administration, Department of Commerce.

SUMMARY: The Department of Commerce is conducting an administrative review of the antidumping duty order on stainless steel bar from Italy. The period of review is March 1, 2003, through February 29, 2004. This review covers imports of stainless steel bar from one producer/exporter. We have preliminarily found that the respondent in this review did not make shipments of subject merchandise to the United States during the period of review and, therefore, we are preliminarily rescinding this administrative review. In addition, the Department of Commerce has received information sufficient to warrant a successor-in-interest analysis. Based on this information, we preliminarily find that UGITECH S.A. is the successor-in-interest to Ugine-Savoie Imphy S.A. for purposes of determining antidumping duty liability. We invite interested parties to comment on these preliminary results. We will issue the final results not later than 120 days from the date of publication of this notice.

DATES: Effective Date: April 7, 2005.

FOR FURTHER INFORMATION CONTACT: Scott Holland, AD/CVD Operations, Office 1, Import Administration, International Trade Administration, U.S. Department of Commerce, 14th Street and Constitution Avenue, NW., Washington, DC 20230; telephone (202) 482-1279.

SUPPLEMENTARY INFORMATION:

Background

On March 7, 2002, the Department of Commerce (“the Department”) published an antidumping duty order on stainless steel bar (“SSB”) from Italy. See Notice of Antidumping Duty Order: Stainless Steel Bar from Italy, 67 FR 10384 (March 7, 2002). On October 10, 2003, the Department published an amended antidumping duty order on SSB from Italy. See Notice of Amended Antidumping Duty Orders: Stainless Steel Bar from France, Germany, Italy, Korea, and the United Kingdom, 68 FR 58660 (October 10, 2003).

On March 1, 2004, the Department published in the Federal Register a notice of the opportunity for interested parties to request an administrative review of the antidumping duty order on SSB from Italy. See Notice of Opportunity to Request Administrative Review of Antidumping or Countervailing Duty Order, Finding or Suspended Investigation, 69 FR 9584 (March 1, 2004). On March 31, 2004, Carpenter Technology Corp., Crucible Specialty Metals, Electralloy Corp., Empire Specialty Steel Inc., Slater Steels Corp., and the United Steelworkers of America, AFL-CIO/CLC (collectively, “the petitioners”), requested an administrative review of imports of the subject merchandise produced by UGITECH S.A. (“UGITECH”) (formerly known as Ugine Savoie-Imphy S.A.), an Italian exporter/producer of the subject merchandise.

In accordance with 19 CFR 351.221(b)(1), we published a notice of initiation of this antidumping duty administrative review on May 27, 2004. See Notice of Initiation of Antidumping and Countervailing Duty Administrative Reviews, 69 FR 30282 (May 27, 2004). The period of review (“POR”) is March 1, 2003, through February 29, 2004.

On May 21, 2004, UGITECH informed the Department that it made no entries of subject merchandise during the POR and requested that the Department rescind the instant review with respect to UGITECH, in accordance with 19 CFR 351.213(d)(3). In June 2004, the petitioners submitted comments on UGITECH's May 21, 2004, submission and requested that the Department investigate further UGITECH's rescission request. In June 2004, UGITECH responded to the petitioner's comments.

For our successor-in-interest analysis, on June 25, 2004, the Department requested additional information concerning the nature of the name change of Ugine Savoie-Imphy S.A. to UGITECH. We received UGITECH's response on July 23, 2004. On September 1, 2004, the petitioners submitted comments on UGITECH's July 23, 2004, response. We issued a supplemental questionnaire on October 12, 2004, requesting additional information with regard to UGITECH's no shipment claim and received UGITECH's response on October 28, 2004.

In November 2004, the Department conducted a verification of UGITECH's questionnaire responses, in accordance with 19 CFR 351.307. The verification report was issued on January 13, 2005. See Memorandum to the File, “Verification of UGITECH's S.A.'s No-Shipment Claim,” (“UGITECH's VR”) dated January 13, 2005.

On November 17, 2004, we extended the time limit for the preliminary results in this review until February 1, 2005. See Stainless Steel Bar from Italy: Notice of Extension of Time Limit for the Preliminary Results of the Antidumping Duty Administrative Review, 69 FR 67309 (November 17, 2004). On January 14, 2005, we extended the time limit for the preliminary results in this review until March 31, 2005. See Stainless Steel Bar from Italy: Notice of Extension of Time Limit for the Preliminary Results of the Antidumping Duty Administrative Review, 70 FR 2612 (January 14, 2005). On February 10, 2005, and March 14, 2005, the petitioners submitted comments for purposes of the preliminary results. On March 18, 2005, UGITECH responded to the petitioner's comments.

Scope of the Order

For purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The stainless steel bar subject to this order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of this order is dispositive.

Successor-In-Interest Analysis

In its July 23, 2004, response to the Department's request for additional information, UGITECH reported that on November 28, 2003, the shareholders of Ugine-Savoie Imphy S.A. voted to change the company's name to UGITECH S.A. UGITECH claimed that Ugine-Savoie Imphy S.A. and UGITECH remained the same legal entity and there was no change in ownership associated with the change in name. According to UGITECH, prior to the name change Ugine-Savoie Imphy S.A. dissolved one of its wholly-owned French subsidiaries (i.e., Ugine-Savoie France S.A.) and integrated that company's operations as an internal department within Ugine-Savoie Imphy S.A. Similarly, shortly after the name change, UGITECH dissolved another wholly-owned French subsidiary (i.e., Sprint Metal S.A.) and integrated its operations as a internal department within UGITECH. Also at that time, the former chief executive officer of Sprint Metal was made vice president of sales at UGITECH. Other than the name change and the incorporation of the two former subsidiaries into the company, UGITECH operations and facilities remain essentially unchanged.

Thus, in accordance with section 751(b) of the Act, the Department is conducting a successor-in-interest analysis to determine whether UGITECH is the successor-in-interest to Ugine-Savoie Imphy S.A. for purposes of determining antidumping liability with respect to the subject merchandise. In making such a successor-in-interest determination, the Department examines several factors including, but not limited to, changes in: (1) Management; (2) production facilities; (3) supplier relationships; and (4) customer base. See, e.g., Polychloroprene Rubber from Japan: Final Results of Changed Circumstances Review, 67 FR 58 (January 2, 2002) (“Polychloroprene Rubber from Japan”); and Brass Sheet and Strip from Canada: Final Results of Antidumping Duty Administrative Review, 57 FR 20460 (May 13, 1992) (“Canadian Brass”). While no single factor or combination of factors will necessarily provide a dispositive indication, the Department will generally consider the new company to be the successor to the previous company if its resulting operation is not materially dissimilar to that of its predecessor. See, e.g., Polychloroprene Rubber from Japan; Industrial Phosphoric Acid from Israel: Final Results of Changed Circumstances Review, 59 FR 6944 (February 14, 1994); Canadian Brass; and Fresh and Chilled Atlantic Salmon from Norway: Initiation and Preliminary Results of Changed Circumstances Antidumping Duty Administrative Review, 63 FR 50880 (September 23, 1998). Thus, if the evidence demonstrates that, with respect to the production and sale of the subject merchandise, the new company operates as the same business entity as the former company, the Department will accord the new company the same antidumping duty treatment as its predecessor.

We preliminarily find that UGITECH is the successor-in-interest to Ugine-Savoie Imphy S.A. UGITECH submitted documentation supporting its claims that its name change resulted in no significant changes in either production facilities, supplier relationships, customer base, or management. This documentation consisted of: (1) A copy of the board meeting minutes for the name change; (2) a copy of the article of incorporation for UGITECH; and (3) copies of the official registration of Ugine-Savoie Imphy S.A. (before the name change) and UGITECH (after the name change); and (4) copies of the statements of dissolution for Ugine-Savoie France S.A. and Sprint Metal S.A. These documents, which the Department examined thoroughly at verification, demonstrate that UGITECH operates as the same business entity as Ugine-Savoie Imphy S.A. Because UGITECH has presented evidence to establish a prima facie case of its successorship status, we preliminarily find that UGITECH should receive the same antidumping duty treatment with respect to SSB as the former Ugine-Savoie Imphy S.A.

Preliminary Rescission of Administrative Review

In accordance with 19 CFR 351.213(d)(3), we are preliminarily rescinding this review with respect to UGITECH, which reported that it made no shipments of subject merchandise during the POR. We examined shipment data furnished by U.S. Customs and Border Protection (“CBP”) and analyzed UGITECH's quantity and value of sales at verification. See UGITECH's VR. Based on this, we are satisfied that there were no U.S. shipments of subject merchandise from UGITECH during the POR.

Public Comment

Any interested party may request a hearing within 30 days of publication of this notice. A hearing, if requested, will be held 37 days after the publication of this notice, or the first business day thereafter. Interested parties may submit case briefs within 30 days of the date of publication of this notice. Rebuttal briefs, which must be limited to issues raised in the case briefs, may be filed not later than 35 days after the date of publication of this notice. The Department will issue the final results of this administrative review, which will include the results of its analysis of issues raised in any such comments, within 120 days of publication of the preliminary results.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This administrative review and notice are in accordance with sections 751(a)(1) and 777(I)(1) of the Act.

Dated: March 31, 2005.
Joseph A. Spetrini,
Acting Assistant Secretary for Import Administration.

[FR Doc. E5-1607 Filed 4-7-05; 8:45 am]

BILLING CODE 3510-DS-P